SMALL BUSINESS ADMINISTRATION

[ License No. 01171-0406]

Ironwood Equity Fund, LP; Notice Seeking Exemption Under Section 312 of the Small Business Investment Act, Conflicts of Interest

Notice is hereby given that Ironwood Equity Fund, LP, 45 Nod Road, Avon, CT 06001, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730). Ironwood Equity Fund, LP proposes to make a convertible debt investment in Action Environmental Group, Inc., a portfolio company of its Associate Ironwood Mezzan jne Fund II, LP.

The financing is brought within the purview of § 107.730(a) of the Regulations because Ironwood Equity Fund, LP proposes to Finance a small business in which its Associate Ironwood Mezzanine Fund II, LP has an equity interest of at least ten percent, so the transaction that will effect the proposed Financing requires prior SBA exemption.

Notice is hereby given that any interested person may submit written comments on the transaction, within fifteen days of the date of this publication, to the Associate Administrator for Investment, U.S. Small Business Administration, 409 Third Street SW., Washington, DC 20416.

December 18, 2013.
Javier Saade,
Associate Administrator for Investment and Innovation.

[FR Doc. 2013-30601 Filed 12-23-13; 8:45 am]

BILLING CODE P